DEPARTMENT OF HOUSING AND URBAN DEVELOPMENT

[Docket No. FR-5477-N-52]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at (800) 927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-(800) 927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Army: Ms. Veronica Rines, Department of the Army, Office of the Assistant Chief of Staff for Installation Management, +-DAIM-ZS, Room 8536, 2511 Jefferson Davis Hwy, Arlington, VA 22202: (571) 256-8145; Coast Guard: Commandant, United States Coast Guard, Attn: Jennifer Stomber, 2100 Second St. SW., Stop 7901, Washington, DC 20593-0001; (202) 475-5609; GSA: Mr. Gordon Creed, Acting Deputy Assistant Commissioner, General Services Administration, Office of Property Disposal, 18th & F Streets NW., Washington, DC 20405; (202) 501-0084; Navy: Mr. Steve Matteo, Department of the Navy, Asset Management Division, Naval Facilities Engineering Command, Washington Navy Yard, 1330 Patterson Ave. SW., Suite 1000, Washington, DC 20374; (202) 685-9426 (These are not toll-free numbers).

Dated: December 22, 2011.
Mark R. Johnston,
Deputy Assistant Secretary for Special Needs .

TITLE V, FEDERAL SURPLUS PROPERTY PROGRAM FEDERAL REGISTER REPORT FOR 12/30/2011

Suitable/Available Properties

Building

Arkansas

99 Shore Court Structure

99 Shore Court

Hot Springs AR 71901

Landholding Agency: GSA

Property Number: 54201140010

Status: Surplus

GSA Number: 7-I-AR-0415-13

Comments: Off-site removal only; 1,845 sq. ft.; current use: residential

132 Clubb Street Structure

132 Clubb Street

Hot Springs AR 71901

Landholding Agency: GSA

Property Number: 54201140014

Status: Surplus

GSA Number: 7-I-AR-0415-14

Comments: Off-site removal only; 1,090 sq. ft.; current use: residential

Washington

Small Arms Firing Range

322 Coast Guard Rd

Ilwaco WA

Landholding Agency: Coast Guard

Property Number: 88201140003

Status: Unutilized

Comments: Off-site removal only; 2,640 sq. ft.; current use: firing range; lead around bld.; need repairs

Land

Illinois

FAA Middle Marker Site

467 37th Ave

St. Charles IL 60174

Landholding Agency: GSA

Property Number: 54201140008

Status: Excess

GSA Number: 1-U-IL-798

Comments: Zoning law/bldg. code prohibits construction; 0.135 acres; current use: FAA communications tower

South Carolina

Marine Corps Air Station

3481 TRASK Parkway

Beaufort SC 29904

Landholding Agency: GSA

Property Number: 54201140009

Status: Excess

GSA Number: 4-N-SC-0608AA

Comments: 18,987.60 sq. ft. (.44 acres); physical features: swamp, periodic flooding, 5 ft. off of main road

Unsuitable Properties

Building

Arkansas

Bldg. 2383

Military Family Housing

Little Rock AR 72099

Landholding Agency: Air Force

Property Number: 18201140064

Status: Excess

Reasons: Secured Area

13 Bldgs.

Military Family Housing

Little Rock AR 92099

Landholding Agency: Air Force

Property Number: 18201140065

Status: Excess

Directions: 2355, 2368, 2369, 2370, 2371, 2376, 2378, 2385, 2397, 2481, 2405, 2447, 2457

Reasons: Secured Area

8 Bldgs.

Military Family Housing

Little Rock AR 72099

Landholding Agency: Air Force

Property Number: 18201140066

Status: Excess

Directions: 2413, 2416, 2421, 2425, 2440, 2441, 2453, 2458

Reasons: Secured Area

14 Bldgs.

Military Family Housing

Little Rock AR 72099

Landholding Agency: Air Force

Property Number: 18201140067

Status: Excess

Directions: 2356, 2358, 2365, 2380, 2399, 2407, 2408, 2410, 2419, 2442, 2445, 2449, 2452, 2456

Reasons: Secured Area

3 Bldgs.

Military Family Housing

Little Rock AR 72099

Landholding Agency: Air Force

Property Number: 18201140068

Status: Excess

Directions: 2432, 2434, 2437

Reasons: Secured Area

12 Bldgs.

Military Family Housing

Little Rock AR 72099

Landholding Agency: Air Force

Property Number: 18201140069

Status: Excess

Directions: 2366, 2367, 2390, 2422, 2426, 2427, 2428, 2429, 2430, 2431, 2433, 2436

Reasons: Secured Area

3 Bldgs.

Military Family Housing

Little Rock AR 72099

Landholding Agency: Air Force

Property Number: 18201140070

Status: Excess

Directions: 2392, 2393, 2394

Reasons: Secured Area

3 Bldgs.

Military Family Housing

Little Rock AR 72099

Landholding Agency: Air Force

Property Number: 18201140071

Status: Excess

Directions: 2384, 2391, 2404

Reasons: Secured Area

9 Bldgs.

Military Family Housing

Little Rock AR 72099

Landholding Agency: Air Force

Property Number: 18201140072

Status: Excess

Directions: 2372, 2409, 2411, 2446, 2448, 2450, 2451, 2455, 2460

Reasons: Secured Area, Contamination

22 Bldgs.

Military Family Housing

Little Rock AR 72099

Landholding Agency: Air Force

Property Number: 18201140073

Status: Excess

Directions: 2354, 2373, 2374, 2375, 2377, 2381, 2382, 2386, 2387, 2388, 2395, 2396, 2400, 2402, 2403, 2406, 2412, 2414, 2418, 2439, 2454, 2459

Reasons: Secured Area

6 Bldgs.

Military Family Housing

Little Rock AR 72099

Landholding Agency: Air Force

Property Number: 18201140074

Status: Excess

Directions: 2379, 2398, 2420, 2423, 2424, 2435

Reasons: Secured Area

13 Bldgs.

Military Housing

Little Rock AR 72099

Landholding Agency: Air Force

Property Number: 18201140075

Status: Excess

Directions: 2357, 2359, 2360, 2361, 2362, 2363, 2364, 2411, 2417, 2438, 2443, 2444, 2461

Reasons: Secured Area

Bldg. 57230

Pine Bluff Arsenal

Pine Bluff AR 71602

Landholding Agency: Army

Property Number: 21201140080

Status: Unutilized

Comments: REDETERMINATION: Previously w/property #21201140055; agency submitted additional info. re: the deteriorated state of property due to chem. contamination; non-removable

Reasons: Contamination, Extensive deterioration

California

China Lake-91076

1 Administration Circle

China Lake CA 93555

Landholding Agency: Navy

Property Number: 77201140020

Status: Excess

Reasons: Extensive deterioration, Within 2000 ft. of flammable or explosive material

Pennsylvania

11 Bldgs.

NSA

Mechanicsburg PA

Landholding Agency: Navy

Property Number: 77201140019

Status: Excess

Directions: 29, 30, 914, 915, 916, 917, 918, 940, 941, 942, 943

Reasons: Secured Area

Virginia

W-55

30 Battle Group Way

Wallops Island VA 23337

Landholding Agency: GSA

Property Number: 54201140011

Status: Excess

GSA Number: 4-N-VA-0761-AA

Reasons: Secured Area

W-141

30 Battle Group Way

Wallops Island VA 23337

Landholding Agency: GSA

Property Number: 54201140012

Status: Excess

GSA Number: 4-N-VA-0761-AB

Reasons: Secured Area

U-12

30 Battle Group Way

Wallops Island VA 23337

Landholding Agency: GSA

Property Number: 54201140013

Status: Excess

GSA Number: 4-N-VA-0761-AC

Reasons: Secured Area

[FR Doc. 2011-33301 Filed 12-29-11; 8:45 am]

BILLING CODE 4210-67-P